FEDERAL COMMUNICATIONS COMMISSION

Public Information Collection Approved by Office of Management and Budget

AGENCY: Federal Communications Commission.

ACTION: Notice.

SUMMARY: The Federal Communications Commission (FCC) received approval from the Office of Management and Budget (OMB) on September 26, 2003 for the information collection requirements contained in Report and Order and Memorandum Opinion and Order on Reconsideration, In the Matter of Remedial Steps for Failure to Comply with Digital Television Construction Schedule (“DTV Policy Statement”), MM Docket No. 02-113, FCC 03-77, at 68 FR 43329, July 22, 2003.

DATES: The information collection requirements published at 68 FR 43329, July 22, 2003, were approved on September 26, 2003.

ADDRESSES: Federal Communications Commission, 445 12th Street, SW., Washington, DC 20554.

FOR FURTHER INFORMATION CONTACT: Shaun Maher, Media Bureau, (202) 418-2324.

SUPPLEMENTARY INFORMATION: The DTV Policy Statement published at 68 FR 43329, July 22, 2003, established procedures to be followed when the staff denies a request to extend a television station's digital television (DTV) construction deadline. The information collection(s) were approved by OMB on September 26, 2003. OMB Control No. 3060-1041. If you have any comments on these burden estimates, or how we can improve the collection(s) and reduce the burden(s) they cause you, please write to Les Smith, Federal Communications Commission, Room 1-A804, 445 12th Street, SW., Washington, DC 20554. Please include the OMB Control Number, 3060-1041, in your correspondence. We will also accept your comments regarding the Paperwork Reduction Act aspects of the collection(s) via the Internet, if you send them to Leslie.Smith@fcc.gov or call (202) 418-0217.

Synopsis

As required by the Paperwork Reduction Act of 1995 (44 U.S.C. 3507), the FCC is notifying the public that it received approval from OMB on September 26, 2003 for the information collection requirements contained in the Commission's Report and Order and Memorandum Opinion and Order on Reconsideration, In the Matter of Remedial Steps for Failure to Comply with Digital Television Construction Schedule, MM Docket No. 02-113, FCC 03-77, at 68 FR 43329, July 22, 2003. The OMB Control Number is 3060-1041. The annual reporting burden for the collection(s) of information, including the time for gathering and maintaining the collection of information, is estimated to be: 400 respondents, an average of 1.2 hours per response per annum, for a total annual hour burden of 460, and $304,000 in total annual costs.

Under 5 CFR part 1320, an agency may not conduct or sponsor a collection of information unless it displays a current valid OMB Control Number. No person shall be subject to any penalty for failing to comply with a collection of information subject to the Paperwork Reduction Act (PRA) that does not display a valid OMB Control Number. The OMB Control Number is 3060-1041.

The foregoing notice is required by the Paperwork Reduction Act of 1995, Public Law 104-13, October 1, 1995, 44 U.S.C. 3507.

Federal Communications Commission.
Marlene H. Dortch,
Secretary.

[FR Doc. 03-25739 Filed 10-9-03; 8:45 am]

BILLING CODE 6712-01-P